ENVIRONMENTAL PROTECTION AGENCY

[FRL-6953-7]

Final Reissuance of the National Pollutant Discharge Elimination System (NPDES) Storm Water Multi-Sector General Permit for Industrial Activities; Correction

AGENCY: Environmental Protection Agency (EPA).

ACTION: Notice of Final NPDES general permit; correction.

SUMMARY: EPA published a new version of the NPDES Storm Water Multi-Sector General Permit (MSGP) in the Federal Register of October 30, 2000 (65 FR 64746), which replaced the first version issued on September 29, 1995 (60 FR 50804) and amended on February 9, 1996 (61 FR 5248), February 20, 1996 (61 FR 5248), September 24, 1996 (61 FR 50020), August 7, 1998 (63 FR 42534) and September 30, 1998 (63 FR 52430). This general permit authorizes the discharge of storm water from industrial activities consistent with the terms of the permit. The permit contained incorrect dates, typographical errors and omissions from any of the following: the fact sheet portion of the final MSGP from October 30, 2000, the proposed MSGP from March 30, 2000 (65 FR 17010), or the original 1995 version of the MSGP and subsequent amendments. This correction is subsequent to an initial correction notice published January 9, 2001 (66 FR 1675).

FOR FURTHER INFORMATION CONTACT: Bryan Rittenhouse, 202-564-0577; rittenhouse.bryan@epa.gov.

SUPPLEMENTARY INFORMATION:

Correction

The following corrections are to be made to the Federal Register of October 30, 2000, (65 FR 64746):

1. On page 64758, first column, under “2. Deadlines”, correct the second paragraph to read:

Facilities currently covered by the 1995 MSGP who cannot immediately determine if they are eligible for coverage under today's reissued MSGP may nevertheless continue their previous coverage for up to 270 days, providing the permittee submits to EPA an application for an individual permit by January 29, 2001. He must also submit a written notification before January 29, 2001, that he needs the extension. The notification alerts the permitting authority of the need for continued coverage under the 1995 MSGP (and also that the permittee may need some help in submitting the application), and it must include the reason why the extension is needed (e.g., to conduct Endangered Species Act or National Historic Preservation Act investigations, or intentionally obtain an individual permit). Applications and notifications must be sent to the appropriate Regional office as listed in part VI.F.2 of this portion of the permit. This interim coverage enables permittees to assesses their eligibility for the MSGP-2000 and, if necessary, still meet the 180 day lead time required for applications for individual permits. If a permittee subsequently determines he is eligible for coverage under the MSGP-2000 before the 270 day extension is up, he may withdraw his individual permit application and submit an NOI for coverage under the MSGP-2000.

2. On page 64766, first column, under “4. Deadlines”, insert “in writing, to the appropriate Regional office (listed in part VI.F.2), for” into the third sentence so that it reads:

However, a permittee may request, in writing, to the appropriate Regional office (listed in part VI.F.2), for an extension for the SWPPP update not to exceed 270 days from the expiration date of the 1995 MSGP.

3. On page 64779, second column, under “Section 2.1 Notice of Intent (NOI) Deadlines”, Replace the first sentence following “Response:” with:

The fact sheet clarifies that SWPPPs are to be prepared, in general, by January 29, 2001.

4. On page 64790, first column, under “Response c:”, correct the second sentence to read:

He then has up to 180 additional days of interim coverage under the MSGP while he conducts the consultation and determines whether he meets the criteria for coverage under the MSGP-2000, providing he requests in writing to the appropriate Regional office for the extension.

5. On page 64808, second column, under “1.2.3.6 Endangered and Threatened Species or Critical Habitat Protection.”, replace the first sentence with:

You are not authorized for discharges or discharge-related activities that are likely to jeopardize the continued existence of any species that are listed as endangered or threatened under the ESA or result in the adverse modification or destruction of habitat that is designated as critical under the ESA.

6. On page 64808, second column, under part 1.2.3.6.1, delete the phrase “or proposed to be designated” from the first sentence.

7. On page 64808, third column, under part 1.2.3.6.3.4, replace the phrase “listed species or critical habitat would be adversely affected.” with:

the discharges and discharge-related activities will jeopardize the continued existence of any species or result in the adverse modification or destruction of critical habitat.

8. On page 64809, first column, under part 1.2.3.6.6, delete the phrase “or proposed to be designated” from the first sentence.

9. On page 64810, second column, under part 2.1.2.2, in the first sentence, replace the phrase “under this permit” with:

for continued coverage under the previous permit

10. On page 64810, second column, under part 2.1.2.2, after the first sentence, add the following sentence:

A written notification must also be submitted to the Director explaining why you need the extended coverage (e.g., conducting Endangered Species Act or National Historic Preservation Act investigations, or applying for an individual permit). If you subsequently determine you are eligible for coverage under the MSGP-2000 before the 270 day extension is up, you may withdraw your individual permit application and submit a notice of intent for coverage under the MSGP-2000. If you cannot determine eligibility for the MSGP-2000 by the end of 270 days (July 29, 2001) your alternative permit coverage must be finalized or your discharges will be unauthorized.

11. On page 64825, second column, under “6.G.6 Storm Water Pollution Prevention Plan (SWPPP) Requirements”, delete the sentence: “In addition to the following requirements, you must also comply with the requirements listed in Part 4.”

12. On page 64825, second column, under “6.G.6.1 SWPPP Requirements for Active and Temporarily Inactive Metal Mining Facilities”, add the following sentence:

For Part 6.G.6.1 only, in addition to the following requirements, you must also comply with the requirements listed in Part 4.

13. On page 64832, first column, under “6.K.2 Industrial Activities Covered by Sector K”, add the following paragraph after the one found there:

Disposal facilities that have been properly closed and capped, and have no significant materials exposed to storm water, are considered inactive and do not require permits.

14. On page 64817, under Table 5-1, footnote 3, delete the word “ethylene'.

15. On page 64817, in Table 5-1, column 2, following the words “Scrap Recycling”, add the following:

and Waste Recycling Facilities

16. On page 64837, first column, following “6.N.4.2 Scrap”, insert the word:

Recycling

17. On page 64838, third column, after “6.N.5 Monitoring and Reporting Requirements. (See also Part 5)”, add the following:

The monitoring and reporting requirements given in TABLE N-1 apply only to scrap recycling and waste recycling facilities (non-source separated facilities only).

18. On page 64839, in Table 5N-1, column 1, following the words “Scrap Recycling”, add the following:

and Waste Recycling

19. On page 64845, column 3, under “6.S.6 Monitoring and Reporting Requirements (See also Part 5)”, add the following language:

Monitor per the requirements in Table S-1, 4 times only during the three month period of December, January and February when deicing activities are occurring, for the year 2 and year 4 monitoring years.

20. On page 64845, under table S-1, delete the footnote: “1 Monitor once/quarter for the year 2 and 4 monitoring years.”

21. On page 64799, first column, under “Response y”, replace the entire paragraph with:

EPA will keep the visual monitoring requirement waiver for representative outfalls that was contained in the 1995 MSGP. This applies when two or more outfalls at a facility discharge substantially identical effluents. When this occurs, the permittee can perform a visual examination of just one of the discharges, providing he describes in his SWPPP why the other outfalls are expected to discharge essentially the same effluents.

22. On page 64818, third column, in “5.2.4 Representative Outfalls-Essential Identical Discharges”, replace the word “Essential” with:

Essentially

23. On page 64818, third column, under “5.2.4 Representative Outfalls-Essential Identical Discharges”, add the following sentence after the first sentence:

The same outfall monitoring waiver for substantially identical discharges applies to quarterly visual monitoring as well.

24. On page 64873, Addendum D-Notice of Intent Form, under “A. Permit Selection', correct the sentence to read:

If new, enter generic permit, otherwise enter previous permit:

25. On page 64874, column 1, under “Section A. Permit Selection”, replace the language in both the original version published on October 29, 2000 and the corrected version published on January 9, 2001 with the following:

If your facility was previously covered by the MSGP 1995 Permit, and you are transferring to the October 29, 2000 version of the MSGP (MSGP 2000), then you must indicate the MSGP 1995 permit number assigned to you by the Storm Water Notice of Intent Center.

If your facility was not previously covered by the MSGP 1995 Permit, and you are applying for new coverage under the MSGP 2000 Permit, you must indicate the “generic” permit number covering your facility area. You will find your generic permit number in the MSGP 2000 Permit, Federal Register, Vol. 65, No. 210, Monday, October 30, 2000, on pages 64802-64803. (As an example, the generic permit number for an industrial site in Puerto Rico would be PRR05*###.) The MSGP 2000 Permit is available online at http://www.epa.gov/owm/sw/industry/msgp/msgp2000.pdf.

26. On page 64871, column 1, under “Puerto Rico, Commonwealth of”, delete “Deputy: Berenice Sueiro, E-Mail: bsueiro@prshpo.prstar.net” and replace “Ms. Lilliane D. Lopez” with:

Ms. Enid Torregrosa de la Rosa

27. On page 64826, column 3, under “6.G.6.2.4.4 Capping”, replace “6.G.6.1.7” with:

6.G.6.1.6.4

28. On page 64826, column 3, under “6.G.6.2.4.5 Treatment”, replace “6.G.6.1.8” with:

6.G.6.1.6.5

Region 1
Signed and issued this 30th day of February 2001.
Susan Studlien,
Deputy Director, Office of Ecosystem Protection.
Region 2
Signed and issued this 28th day of January 2001.
George Pavlou,
Director, Division of Environmental Planning and Protection.
Signed this 2nd day of February, 2001.
Jon M. Capacasa,
Deputy Director, Water Protection Division, Region 3.
Dated: February 12, 2001
A. Stanley Meiburg,
Acting Regional Administrator, Region 4.
Region 6
Signed and issued this 1st day of February 2001.
Oscar Ramirez, Jr.,
Acting Director, Water Quality Protection Division.
Region 8
Signed and issued this 26th day of January 2001.
Stephen S. Tuber,
Acting Assistant Regional Administrator, Office of Partnerships and Regulatory Assistance.
Region 9
Signed and issued this 24th day of January 2001.
Alexis Strauss,
Director, Water Division.

Region 10
Signed and issued this 29th day of January 2001.
Robert Robichaud,
Acting Director, Office of Water.

BILLING CODE 6560-50-P

[FR Doc. 01-7280 Filed 3-22-01; 8:45 am]

BILLING CODE 6560-50-C